GENERAL SERVICES ADMINISTRATION

[OMB Control No. 3090-0250; Docket No. 2011-0079; Sequence 6]

General Services Administration Acquisition Regulation; Information Collection; Zero Burden Information Collection Reports

AGENCY: Office of the Chief Acquisition Officer, GSA.

ACTION: Notice of request for comments regarding a renewal to an existing OMB clearance.

SUMMARY: Under the provisions of the Paperwork Reduction Act (44 U.S.C. chapter 35), the Regulatory Secretariat (MVCB) will be submitting to the Office of Management and Budget (OMB) a request to review and approve a reinstatement of a previously approved information collection requirement regarding zero burden information collection reports.

Public comments are particularly invited on: Whether this collection of information is necessary and whether it will have practical utility; whether our estimate of the public burden of this collection of information is accurate and based on valid assumptions and methodology; and ways to enhance the quality, utility, and clarity of the information to be collected.

DATES: Submit comments on or before: August 29, 2011.

FOR FURTHER INFORMATION CONTACT: Ms. Deborah Lague, Procurement Analyst, Contract Policy Division, at telephone (202) 694-8149 or via e-mail to Deborah.lague@gsa.gov.

ADDRESSES: Submit comments identified by Information Collection 3090-0250, Zero Burden Information Collection Reports, by any of the following methods:

• Regulations.gov: http://www.regulations.gov. Submit comments via the Federal eRulemaking portal by inputting “Information Collection 3090-0250, Zero Burden Information Collection Reports”, under the heading “Enter Keyword or ID” and selecting “Search”. Select the link “Submit a Comment” that corresponds with “Information Collection 3090-0250, Zero Burden Information Collection Reports”. Follow the instructions provided at the “Submit a Comment” screen. Please include your name, company name (if any), and “Information Collection 3090-0250, Zero Burden Information Collection Reports” on your attached document.

• Fax: 202-501-4067.

• Mail: General Services Administration, Regulatory Secretariat (MVCB), 1275 First Street, NE., Washington, DC 20417. ATTN: Hada Flowers/IC 3090-0250, Zero Burden Information Collection Reports.

Instructions: Please submit comments only and cite Information Collection 3090-0250, Zero Burden Information Collection Reports, in all correspondence related to this collection. All comments received will be posted without change to http://www.regulations.gov, including any personal and/or business confidential information provided.

SUPPLEMENTARY INFORMATION:

A. Purpose

This information requirement consists of reports that do not impose collection burdens upon the public. These collections require information which is already available to the public at large or that is routinely exchanged by firms during the normal course of business. A general control number for these collections decreases the amount of paperwork generated by the approval process.

GSA has published rules in the Federal Register that fall under information collection 3090-0250. The rule that prescribed clause 552.238-70 “Identification of Electronic Office Equipment Providing Accessibility for the Handicapped” was published at 56 FR 29442, June 27, 1991, titled “Implementation of Public Law 99-506”, with an effective date of July 8, 1991; and Clause 552.238-74 “Industrial Funding Fee and Sales Reporting” published at 68 FR 41286, July 11, 2003.

B. Annual Reporting Burden

None.

Obtaining Copies of Proposals: Requesters may obtain a copy of the information collection documents from the General Services Administration, Regulatory Secretariat (MVCB), 1275 First Street, NE., Washington, DC 20407, telephone (202) 501-4755. Please cite OMB Control No. 3090-0250, Zero Burden Information Collection Reports, in all correspondence.

Dated: June 21, 2011.
Millisa Gary,
Acting Director, Federal Acquisition Policy Division.

[FR Doc. 2011-16347 Filed 6-29-11; 8:45 am]

BILLING CODE 6820-61-P